NUCLEAR REGULATORY COMMISSION

Advisory Committee on Reactor Safeguards, Subcommittee Meeting on Planning and Procedures; Notice of Meeting

The ACRS Subcommittee on Planning and Procedures will hold a meeting on January 29-30, 2004, in the Montgomery Room at the Residence Inn, 7335 Wisconsin Avenue, Bethesda, Maryland.

The entire meeting will be open to public attendance, with the exception of a portion that may be closed pursuant to 5 U.S.C. 552b(c) (2) and (6) to discuss organizational and personnel matters that relate solely to internal personnel rules and practices of ACRS, and information the release of which would constitute a clearly unwarranted invasion of personal privacy.

The agenda for the subject meeting shall be as follows:

Thursday, January 29 , 2004—8:30 a.m. until the conclusion of business. The Subcommittee will discuss ACRS business processes, effective planning, use of electronic media, potential operational areas for improved effectiveness, and other activities related to the conduct of ACRS business. It will also discuss how well the Committee carries out its charter, the completeness of ACRS reviews, independence issues, and how well it meets the needs of its stakeholders.

Friday, January 30, 2004—8:30 a.m. until the conclusion of business. The Subcommittee will continue to discuss self-assessment of ACRS performance in CY 2003, potential operational areas for improved effectiveness, and other activities related to the conduct of ACRS business. It will also discuss current technical challenges confronting the ACRS, such as risk-informing 10 CFR 50.46, probabilistic risk assessment/significance determination process issues, and proactive Committee initiatives. Additionally, the Subcommittee will discuss needed future technical expertise for the ACRS.

The Subcommittee will gather information, analyze relevant issues and facts, and formulate proposed positions and actions, as appropriate, for deliberation by the full Committee.

Members of the public desiring to provide oral statements and/or written comments should notify the Designated Federal Official, Dr. John T. Larkins (telephone: 301-415-7360) between 7:30 a.m. and 4:15 p.m. (ET) five days prior to the meeting, if possible, so that appropriate arrangements can be made. Electronic recordings will be permitted only during those portions of the meeting that are open to the public.

Further information regarding this meeting can be obtained by contacting the Designated Federal Official between 7:30 a.m. and 4:15 p.m. (ET). Persons planning to attend this meeting are urged to contact the above named individual at least two working days prior to the meeting to be advised of any potential changes in the agenda.

Dated: December 18, 2003.
Medhat El-Zeftawy,
Acting Associate Director for Technical Support, ACRS/ACNW.

[FR Doc. 03-31689 Filed 12-23-03; 8:45 am]

BILLING CODE 7590-01-P